CONSUMER PRODUCT SAFETY COMMISSION

Sunshine Act Meetings

Time and Date: Thursday, April 8, 2010, 9 a.m.-12 Noon & 1 p.m.-3 p.m.

Place: Hearing Room 420, Bethesda Towers, 4330 East West Highway, Bethesda, Maryland.

Status: Commission Meeting—Open to the Public.

Matters to be Considered:

1. Toxicity of Metals in Consumer Products (9 a.m.-12 noon).

2. Testing and Conformance (15 Month Rule)—Notice of Proposed Rulemaking (NPR) (1 p.m.-3 p.m.).

A live Webcast of the meeting can be viewed at http://www.cpsc.gov/webcast/index.html.

For a recorded message containing the latest agenda information, call (301) 504-7948.

Contact Person for More Information: Todd A. Stevenson, Office of the Secretary, U.S. Consumer Product Safety Commission, 4330 East West Highway, Bethesda, MD 20814, (301) 504-7923.

Dated: March 24, 2010.
Todd A. Stevenson,
Secretary.

[FR Doc. 2010-6937 Filed 3-24-10; 4:15 pm]

BILLING CODE 6355-01-P